ENVIRONMENTAL PROTECTION AGENCY

[FRL-9914-61-Region 3]

Adequacy Status of the Maintenance Plan for the Baltimore, Maryland 1997 Fine Particulate National Ambient Air Quality Standard Nonattainment Area for Transportation Conformity Purposes

AGENCY: Environmental Protection Agency (EPA).

ACTION: Notice of adequacy.

SUMMARY: In this notice, the Environmental Protection Agency (EPA) is notifying the public that EPA has found that the motor vehicle emissions budgets (MVEBs) in the Baltimore, Maryland (MD) 1997 Fine Particulate (PM2.5) National Ambient Air Quality Standard (NAAQS) Nonattainment Area Maintenance Plan (Baltimore Maintenance Plan), submitted as a State Implementation Plan (SIP) revision by Maryland Department of the Environment (MDE), are adequate for transportation conformity purposes. As a result of EPA's finding, the State of Maryland must use the 2017 and 2025 MVEBs from the Baltimore Maintenance Plan for future conformity determinations for the 1997 PM2.5 NAAQS.

DATES: The adequacy finding for the PM2.5 MVEBs is effective on August 15, 2014

FOR FURTHER INFORMATION CONTACT: Gregory Becoat, Physical Scientist, Office of Air Program Planning (3AP30), United States Environmental Protection Agency, Region III, 1650 Arch Street, Philadelphia, PA 19103, (215) 814-2036; becoat.gregory@epa.gov.

SUPPLEMENTARY INFORMATION:

Today's notice is simply an announcement of a finding that EPA has already made. EPA Region III sent a letter to MDE on July, 2, 2014, stating that EPA has found that the MVEBs in the Baltimore Maintenance Plan for budget years 2017 and 2025, submitted on December 12, 2013 by MDE, are adequate for transportation conformity purposes. As a result of EPA's finding, the State of Maryland must use the 2017 and 2025 MVEBs from the December 12, 2013 Baltimore Maintenance Plan for future conformity determinations in the Baltimore, MD 1997 PM2.5 NAAQS Nonattainment Area. Receipt of the submittal was announced on EPA's transportation conformity Web site. No comments were received. The findings letter is available at EPA's conformity Web site: http://www.epa.gov/otaq/stateresources/transconf/adequacy.htm. The adequate particulate matter (PM) and nitrogen oxides (NOX) MVEBs are provided in Table 1.

Table 1—On-Road MVEBs Contained in the Baltimore, MD 1997 PM2.5 Nonattainment Area Maintenance Plan for the 1997 PM2.5 NAAQS
Year | Motor vehicle emissions budget for PM2.5 on-road emissions (tons per year) | Mobile vehicle emissions budget for NOX on-road emissions (tons per year)
2017 | 1,218.60 | 29,892.01
2025 | 1,051.39 | 21,594.96

Transportation conformity is required by section 176(c) of the Clean Air Act (CAA). EPA's conformity rule requires that transportation plans, transportation improvement programs, and projects conform to SIPs and establishes the criteria and procedures for determining whether or not they do. Conformity to a SIP means that transportation activities will not produce new air quality violations, worsen existing violations, or delay timely attainment of the national ambient air quality standards.

The criteria by which EPA determines whether a SIP's MVEBs are adequate for conformity purposes are outlined in 40 CFR 93.118(e)(4). EPA described the process for determining the adequacy of submitted SIP budgets in a July 1, 2004 preamble starting at 69 FR 40038 and used the information in these resources in making this adequacy determination. The State of Maryland did not provide emission budgets for sulfur dioxide (SO2), volatile organic compounds (VOCs), or ammonia for the Baltimore Maintenance Plan because it concluded that emissions of these precursors from motor vehicles are not significant contributors to the Area's PM2.5 air quality problem. The transportation conformity rule provision at 40 CFR 93.102(b)(2)(v) indicates that conformity does not apply for these precursors, due to the lack of motor vehicle emissions budgets for these precursors and state's conclusion that motor vehicle emissions of SO2, VOCs, and ammonia do not contribute significantly to the area's PM2.5 nonattainment problem. This provision of the transportation conformity rule predates and was not disturbed by the January 4, 2013 decision in the litigation on the PM2.5 implementation rule.¹ EPA has preliminarily concluded that Maryland's decision to not include budgets for SO2, VOCs, and ammonia is consistent with the requirements of the transportation conformity rule. That decision does not affect EPA's adequacy finding for the submitted PM2.5 and NOX MVEBs for the Baltimore Maintenance Plan.

¹ EPA issued conformity regulations to implement the 1997 PM2.5 NAAQS (69 FR 40004, July 1, 2004 and 70 FR 24280, May 6, 2005, respectively). Those actions were not part of the final rule recently remanded to EPA by the Court of Appeals for the District of Columbia in NRDC v. EPA, No. 08-1250 (January 4, 2013), in which the Court remanded to EPA the implementation rule for the PM2.5 NAAQS because it concluded that EPA must implement that NAAQS pursuant to the PM-specific implementation provisions of subpart 4 of Part D of Title I of the CAA, rather than solely under the general provisions of subpart 1.

Please note that an adequacy review is separate from EPA's completeness review, and should not be used to prejudge EPA's ultimate approval action for the SIP. Even if EPA finds the budgets for the Baltimore Maintenance Plan adequate, the SIP could later be disapproved. The finding and the response to comments are available at EPA's conformity Web site: http://www.epa.gov/otaq/stateresources/transconf/adequacy.htm.

Authority: 42 U.S.C. 7401-7671q.

Dated: July 11, 2014.
W.C. Early,
Acting Regional Administrator, Region III.

[FR Doc. 2014-18046 Filed 7-30-14; 8:45 am]

BILLING CODE 6560-50-P